DEPARTMENT OF THE INTERIOR

Bureau of Land Management

[LLMT921000-14-L13200000-EL0000-P; NDM 107286]

Notice of Invitation to Participate; Coal Exploration License Application NDM 107286, North Dakota

AGENCY: Bureau of Land Management, Interior.

ACTION: Notice.

SUMMARY: Pursuant to the Mineral Leasing Act of 1920, as amended by the Federal Coal Leasing Amendments Act of 1976, and to Bureau of Land Management (BLM) regulations, members of the public are invited to participate with BNI Coal Ltd. on a pro rata cost sharing basis in a program for the exploration of coal deposits owned by the United States of America in lands located in Oliver County, North Dakota.

DATES: Any party seeking to participate in this exploration program must send written notice to both the Bureau of Land Management (BLM) and BNI Coal Ltd. as provided in the ADDRESSES section below no later than August 11, 2014 or 10 calendar days after the last publication of this Notice in the Bismarck Tribune newspaper, whichever is later. This Notice will be published once a week for 2 consecutive weeks in the Bismarck Tribune, Bismarck, North Dakota. Such written notice must refer to serial number NDM 107286.

ADDRESSES: The proposed exploration license and plan (serialized under number NDM 107286) are available for review from 9 a.m. to 4 p.m., Monday through Friday, in the public room at the BLM Montana State Office, 5001 Southgate Drive, Billings, Montana. The exploration license application and exploration plan are also available for viewing on the Montana State Office coal Web site at http://www.blm.gov/mt/st/en/prog/energy/coal.html.

A written notice to participate in the exploration license should be sent to the State Director, BLM Montana State Office, 5001 Southgate Drive, Billings, MT 59101-4669 and BNI Coal, 2360 35th Avenue SW., Center, ND 58530.

FOR FURTHER INFORMATION CONTACT: Anne Allen, telephone 406-896-5082 or email at amallen@blm.gov; or Kym Dowdle, telephone 406-896-5046, or email at kdowdle@blm.gov. Persons who use a telecommunications device for the deaf (TDD) may call the Federal Information Relay Service (FIRS) at 1-800-877-8339 to contact the above individuals during normal business hours. The FIRS is available 24 hours a day, 7 days a week, to leave a message or question for the above individuals. You will receive a reply during normal business hours.

SUPPLEMENTARY INFORMATION: The exploration activities will be performed pursuant to the Mineral Leasing Act of 1920, as amended, 30 U.S.C. 201(b), and to the regulations at 43 CFR part 3410. The BLM regulations at 43 CFR 3410 require the publication of an invitation to participate in the coal exploration in the Federal Register. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate.

The Federal coal resources included in the exploration license application NDM 107286 are located in the following-described lands in North Dakota:

Fifth Principal Meridian, North Dakota

T141N, R83W,

Sec. 8, NW¼SE¼, S½SE¼;

Sec. 18, NE¼.

T141 N, R84W,

Sec. 24, SW¼.

The area described contains 440 acres.

The Federal coal within the lands described for exploration license application NDM 107286 is currently unleased for development of Federal coal reserves.

Authority: 43 CFR 3410.2-1(c)(1).

Phillip C. Perlewitz,
Chief, Branch of Solid Minerals.

[FR Doc. 2014-16228 Filed 7-10-14; 8:45 am]

BILLING CODE 4310-DN-P